DEPARTMENT OF LABOR

Employment and Training Administration

[TA-W-73,924]

Amsted Rail Company, Inc., a Subsidiary of Amsted, Including On-Site Leased Workers From Kelly Services and Account Temps, Granite City, IL; Amended Certification Regarding Eligibility To Apply for Worker Adjustment Assistance

In accordance with Section 223 of the Trade Act of 1974, as amended (“Act”), 19 U.S.C. 2273, the Department of Labor issued a Certification of Eligibility to Apply for Worker Adjustment Assistance on July 14, 2010, applicable to workers of Amsted Rail Company, Inc., a subsidiary of Amsted, including on-site leased workers from Kelly Services and Account Temps, Granite City, Illinois. The Department's Notice was published in the Federal Register on August 2, 2010 (75 FR 45162).

At the request of the State Agency, the Department reviewed the certification. The workers are engaged in the production of component parts for the rail car industry.

The Department's review shows that on January 11, 2008, a certification of eligibility to apply for adjustment assistance was issued for all workers of ASF-Keystone, Inc., a Division of Amsted, Granite City, Illinois, separated from employment on or after September 20, 2006 through January 11, 2010 (TA-W-62,177). The Department's notice was published in the Federal Register on January 25, 2008 (73 FR 4634). The certification of TA-W-62,177 did not include any on-site leased workers.

In order to avoid an overlap in worker group coverage concerning only the workers of Amsted Rail Company, Inc., a subsidiary of Amsted, the Department is amending the April 14, 2009 impact date to read January 12, 2010.

The amended notice applicable to TA-W-73,924 is hereby issued as follows:

All workers of Amsted Rail Company, Inc., a subsidiary of Amsted, Granite City, Illinois, who became totally or partially separated from employment on or after January 12, 2010, through July 14, 2012, and all workers in the group threatened with total or partial separation from employment on date of certification through two years from the date of certification, are eligible to apply for adjustment assistance under Chapter 2 of Title II of the Trade Act of 1974, as amended;

And

All leased workers from Kelly Services and Account Temps, working on-site at Amsted Rail Company, Inc., a subsidiary of Amsted, Granite City, Illinois, who became totally or partially separated from employment on or after April 14, 2009 through July 14, 2012, and all workers in the group threatened with total or partial separation from employment on date of certification through two years from the date of certification, are eligible to apply for adjustment assistance under Chapter 2 of Title II of the Trade Act of 1974, as amended.

Signed in Washington, DC, this 21st day of September, 2010.
Del Min Amy Chen
Certifying Officer, Office of Trade Adjustment Assistance.

[FR Doc. 2010-24383 Filed 9-28-10; 8:45 am]

BILLING CODE 4510-FN-P